NUCLEAR REGULATORY COMMISSION

Documents Containing Reporting or Recordkeeping Requirements: Office of Management and Budget (OMB) Review

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Final rule entitled “Reporting Requirements for Nuclear Power Reactors and Independent Spent Fuel Storage Installations at Power Reactor Sites,” 10 CFR 50 and 10 CFR 72.

3. The form number if applicable: NRC Forms 366, 366A, and 366B, “Licensee Event Report (LER)” and continuation pages.

4. How often the collection is required: Events involving reactors are reportable on occurrence.

5. Who will be required or asked to report: Holders of operating licenses for commercial nuclear power plants.

6. An estimate of the number of responses: 1220 telephone reports per year under 10 CFR 50.72(b) and 10 CFR 50.73(a) [a reduction of 180] and 1130 written reports per year under 10 CFR 50.73(a) [a reduction of 270] for a total reduction of 450 reports per year.

7. The estimated number of annual respondents: 104.

8. An estimate of the total number of hours needed annually to complete the requirement or request:

—A reduction of 270 hours for 180 fewer telephone notifications.

—A reduction of 13,500 hours for 270 fewer written LERs.

—In addition, there is a one-time implementation burden of about 20,800 hours (or 6,933 hours per year over three years) to revise reporting procedures and conduct training.

—The total burden reduction is 13,770 hours (not including the one-time implementation burden).

9. An indication of whether Section 3507(d), Pub. L. 104-13 applies: Applicable.

10. Abstract: The NRC is amending the event reporting requirements for nuclear power reactors in 10 CFR 50.72 and 50.73 to reduce or eliminate the unnecessary reporting burden associated with events of little or no safety significance. This final rule continues to provide the Commission with reporting of significant events where Commission action may be needed to maintain or improve reactor safety or to respond to heightened public concern. It also better aligns event reporting requirements with the type of information NRC needs to carry out its safety mission, including revising reporting requirements based on importance to risk and extending the required reporting times consistent with the time that the information is needed for prompt NRC action. NRC Form 366 is being modified to reflect the revised reporting sections contained in 10 CFR 50.73. Also, NUREG-1022, Revision 2, “Event Reporting Guidelines, 10 CFR 50.72 and 50.73,” is being made available concurrently with the final rule.

A copy of the supporting statement may be viewed free of charge at the NRC Public Document Room, 2120 L Street, NW (lower level), Washington, DC. OMB clearance packages are available at the NRC worldwide web site (http://www.nrc.gov/NRC/PUBLIC/OMB/index.html). The document will be available on the NRC home page site for 60 days after the signature date of this notice.

Comments and questions should be directed to the OMB reviewer by August 25, 2000. Erik Godwin, Office of Information and Regulatory Affairs (3150-0011 and -0104), NEOB-10202, Office of Management and Budget, Washington DC 20503.

Comments can also be submitted by telephone at (202) 395-3087.

The NRC Clearance Officer is Brenda Jo Shelton, 301-415-7233.

Dated at Rockville, Maryland, this 20th day of July 2000.
For the Nuclear Regulatory Commission.
Brenda Jo Shelton,
NRC Clearance Officer, Office of the Chief Information Officer.

[FR Doc. 00-18920 Filed 7-25-00; 8:45 am]

BILLING CODE 7590-01-P